DEPARTMENT OF VETERANS AFFAIRS

[OMB Control No. 2900-0605]

Agency Information Collection Activities Under OMB Review

AGENCY: Office of General Counsel, Department of Veterans Affairs.

ACTION: Notice.

SUMMARY: In compliance with the Paperwork Reduction Act (PRA) of 1995 (44 U.S.C., 3501 et seq.), this notice announces that the Office of General Counsel (OGC), Department of Veterans Affairs, has submitted the collection of information abstracted below to the Office of Management and Budget (OMB) for review and comment. The PRA submission describes the nature of the information collection and its expected cost and burden; it includes the actual data collection instrument.

DATES: Comments must be submitted on or before March 25, 2002.

FOR FURTHER INFORMATION OR A COPY OF THE SUBMISSION CONTACT: Denise McLamb, Information Management Service (045A4), Department of Veterans Affairs, 810 Vermont Avenue, NW, Washington, DC 20420, (202) 273-8030, FAX (202) 273-5981 or e-mail: denise.mclamb@mail.va.gov. Please refer to “OMB Control No. 2900-0605.”

SUPPLEMENTARY INFORMATION:

Title: Application for Accreditation as a Claims Agent, VA Form 21a.

OMB Control Number: 2900-0605.

Type of Review: Extension of a currently approved collection.

Abstract: Applicants for accreditation as claims agents to represent benefit claimants before VA are required to file VA Form 21a with VA Office of General Counsel to establish initial eligibility for accreditation. The information requested includes basic identifying information, information concerning past representation, military service, employment, criminal activity and mental health and is necessary to establish that statutory and regulatory eligibility requirement; e.g., good character and reputation are met. The form further ensures that VA has the information necessary to make decisions concerning an applicant's potential eligibility for accreditation as a claims agent.

An agency may not conduct or sponsor, and a person is not required to respond to a collection of information unless it displays a currently valid OMB control number. The Federal Register Notice with a 60-day comment period soliciting comments on this collection of information was published on November 8, 2001, at pages 56591 and 56592.

Affected Public: Individuals or households.

Estimated Annual Burden: 15 hours.

Estimated Average Burden Per Respondent: 45 minutes.

Frequency of Response: On occasion.

Estimated Number of Respondents: 20.

Send comments and recommendations concerning any aspect of the information collection to VA's OMB Desk Officer, OMB Human Resources and Housing Branch, New Executive Office Building, Room 10235, Washington, DC 20503 (202) 395-7316. Please refer to “OMB Control No. 2900-0605” in any correspondence.

Dated: February 8, 2002.
By direction of the Secretary.
Barbara H. Epps,
Management Analyst, Information Management Service.

[FR Doc. 02-4128 Filed 2-20-02; 8:45 am]

BILLING CODE 8320-01-P